DEPARTMENT OF HEALTH AND HUMAN SERVICES

Centers for Disease Control and Prevention

Disease, Disability, and Injury Prevention and Control Special Emphasis Panel: Commercial Truck Driver Health and Safety—Preventing Injury and Illness, Request for Applications (RFA) 07-001

In accordance with section 10(a)(2) of the Federal Advisory Committee Act (Pub. L. 92-463), the Centers for Disease Control and Prevention (CDC) announces the following meeting:

Name: Disease, Disability, and Injury Prevention and Control Special Emphasis Panel (SEP): Commercial Truck Driver Health and Safety—Preventing Injury and Illness, RFA 07-001.

Times and Dates: 7 p.m.-9 p.m., October 11, 2006 (Closed).

8 a.m.-5 p.m., October 12, 2006 (Closed).

Place: Embassy Suites, 1900 Diagonal Road, Alexandria, VA 20036, telephone (703) 684-5900.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to RFA 07-001, “Commercial Truck Driver Health and Safety—Preventing Injury and Illness.”

Contact Person for More Information: George Bokosh, Designated Federal Officer, 626 Cochrans Mill Road, Pittsburgh, PA 15236, telephone (412) 386-6465.

The Director, Management Analysis and Services Office, has been delegated the authority to sign Federal Register notices pertaining to announcements of meetings and other committee management activities, for both CDC and the Agency for Toxic Substances and Disease Registry.

Dated: August 31, 2006.
Alvin Hall,
Director, Management Analysis and Services Office, Centers for Disease Control and Prevention.

[FR Doc. E6-14863 Filed 9-7-06; 8:45 am]

BILLING CODE 4163-18-P